DEPARTMENT OF COMMERCE

Foreign-Trade Zones Board

[Order No. 1220]

Approval for Expanded Manufacturing Authority and Subzone Expansion (Motorcycles, Personal Watercraft, All-Terrain Vehicles, Utility Work Trucks, Industrial Robots); Foreign-Trade Subzone 59A; Kawasaki Motors Manufacturing Corp., U.S.A.; Lincoln, Nebraska

Pursuant to its authority under the Foreign-Trade Zones Act of June 18, 1934, as amended (19 U.S.C. 81a-81u), the Foreign-Trade Zones Board (the Board) adopts the following Order:

Whereas, the Lincoln Foreign Trade Zone, Inc., grantee of Foreign-Trade Zone 59, has requested authority on behalf of Kawasaki Motors Manufacturing, U.S.A. (Inc.) (KMM), operator of FTZ 59A, at the KMM motor vehicle and industrial automation products manufacturing facility in Lincoln, Nebraska, to expand the scope of FTZ authority to include new manufacturing capacity under FTZ procedures and requesting authority to expand the boundaries of Subzone 59A (FTZ Doc. 33-99, filed 6-25-99);

Whereas, notice inviting public comment was given in the Federal Register (64 FR 37496, 7-12-99);

Whereas, the Board adopts the findings and recommendations of the examiner's report, and finds that the requirements of the FTZ Act and the Board's regulations are satisfied, and that approval of the application is in the public interest;

Now therefore, the Board hereby approves the request, subject to the FTZ Act and the Board's regulations, including Section 400.28.

Signed at Washington, DC, this 29th day of March, 2002.
Faryar Shirzad,
Assistant Secretary of Commerce for Import Administration, Alternate Chairman, Foreign-Trade Zones Board.
Dennis Puccinelli,
Executive Secretary.

[FR Doc. 02-8566 Filed 4-8-02; 8:45 am]

BILLING CODE 3510-DS-P